FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Make Your Mark on the Floodplain—High Water Mark Form.

Type of Information Collection: Extension of a currently approved collection.

OMB Number: 3067-0268.

Abstract: The Federal Emergency Management Agency (FEMA) has entered into a partnership with the U.S. Army Corps of Engineers (COE) in the Portland District to assist the Agency in providing floodplain management assistance at the most basic and needed level, that of local floodplain managers and the local communities. The joint efforts of FEMA and the COE continue to assure safe and sound developments near floodplains. The Make Your Mark on the Floodplain handout and accompanying High Water Mark Form is used to establish uniform and consistent methodologies for setting and recovering high water marks following a significant flood event. After a major flood, anyone who has high water marks on their property or who has observed flood marks on public property can use the form to record high water mark information, including location, measurements, and description of the marks read. The data will be used by FEMA in post-flood damage assessments. The data will define a frequency/damage relationship for the flooding event and provide calibration information for future analysis. The U.S. Army Corps of Engineers will assist FEMA in collecting and compiling high water mark data.

Affected Public: State, Local or Tribal Government, Individual or Households, Business or Other For-Profit, Not-For-Profit Institutions, Farms.

Number of Respondents: 7,500.

Estimated Time per Respondent: 20 minutes.

Estimated Total Annual Burden Hours: 2,500.

Frequency of Response: On Occasion (after each significant flood event).

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, FEMA Information Collections Officer, Federal Emergency Management Agency, 500 C Street, SW., Room 316, Washington, DC 20472. Telephone number (202) 646-2625. FAX number (202) 646-3524 or email muriel.anderson@fema.gov.

Virginia Akers,
Acting Director, Program Services Division, Operations Support Directorate.

[FR Doc. 00-11261 Filed 5-4-00; 8:45 am]

BILLING CODE 6718-01-P